DEPARTMENT OF COMMERCE

National Oceanic and Atmospheric Administration

Proposed Information Collection; Comment Request; Socioeconomics of Commercial Fishers and For Hire Diving and Fishing Operations in the Flower Garden Banks National Marine Sanctuary

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 8, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Vernon R. Leeworthy (240) 533-0647 or Bob.Leeworthy@noaa.gov.

SUPPLEMENTARY INFORMATION:

I. Abstract

This request is for reinstatement with change of a currently approved information collection.

The National Marine Sanctuaries Act (16 U.S.C. 1431, et seq.) authorizes the use of research and monitoring within National Marine Sanctuaries (NMS). In 1996, the Flower Gardens Bank National Marine Sanctuary (FGBNMS) was added to the system of NMS via 15 CFR part 922, subpart L. In 2001, Stetson Bank was added in a revision of 15 CFR part 922.

The National Marine Sanctuaries Act (NMSA) specifies that each NMS should revise their management plans on a five-year cycle. The FGBNMS has begun the management plan review process. The NMSA also allows for the creation of Sanctuary Advisory Councils (SACs). SACs are comprised of representatives of all NMS stakeholders. Management Plan Review (MPR) is a public process and the SACs, along with a series of public meetings, are used to help scope out issues in revising the management plans and regulations. SAC Working Groups are often used to evaluate management or regulatory alternatives. In the current MPR for the FGBNMS, two major issues have emerged: Boundary expansion and research-only areas. In addition, several new or modified regulations are being considered to meet specific needs for diver safety and resource protection (no anchoring/mooring buoy use requirement and a more stringent pollution discharge regulation).

To address each one these issues, a socioeconomic panel composed of NOAA staff and social scientists from other agencies, or from universities, developed information and tools to assess the socioeconomic impacts of management strategies and regulatory alternatives. The information and tools developed in this process will also provide the necessary information for meeting agency requirements for socioeconomic impact analyses under the National Environmental Policy Act (NEPA), Executive Order 12086 (Regulatory Impact Review) and an Initial and Final Regulatory Flexibility Analyses (impacts on small businesses). Our initial plan, as the first step in the assessment process, was to interview three key sanctuary user groups—commercial fishers, for-hire recreational dive operations and for-hire recreational fishing operations (charter and party/head boat operations)—with questions focusing on: (1) General information, economic information and trip costs and (2) knowledge, attitudes and perceptions of sanctuary management strategies and regulations.

In 2011-2012, the for-hire dive and fishing industry interviews were completed. The commercial fisheries interviews were completed in 2013.

The FGBNMS management and SAC now want to evaluate moving the scope of boundary expansion eastward; this will require us to gather the same information for the three user groups in areas east of the original data collection.

II. Method of Collection

Interviews will be conducted face-to-face and recorded on paper forms.

III. Data

OMB Control Number: 0648-0597.

Form Number: None.

Type of Review: Regular submission (reinstatement with change of a currently approved collection).

Affected Public: Business or other for-profit organizations.

Estimated Number of Respondents: 27.

Estimated Time per Response: Three hours per interview.

Estimated Total Annual Burden Hours: 81.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 4, 2016.
Sarah Brabson,
NOAA PRA Clearance Officer.

[FR Doc. 2016-00145 Filed 1-7-16; 8:45 am]

BILLING CODE 3510-NK-P